DEPARTMENT OF DEFENSE

Department of the Air Force

Notice of Intent To Grant an Exclusive License With a Joint Ownership Agreement

AGENCY: Department of the Air Force, Department of Defense.

ACTION: Notice of intent.

SUMMARY: Pursuant to the Bayh-Dole Act and implementing regulations, the Department of the Air Force hereby gives notice of its intent to grant an exclusive license with a joint ownership agreement to The Research Foundation for The State University of New York, a non-profit entity having the primary function of managing inventions on behalf of The State University of New York and having a place of business at P.O. Box 9, Albany, NY 12201.

DATES: Written objections must be filed no later than fifteen (15) calendar days after the date of publication of this Notice.

ADDRESSES: Submit written objections to Jason Sopko, AFRL/RYO, 2241 Avionics Cir., Wright-Patterson AFB, OH 45433; or Email: jason.sopko.2@us.af.mil. Include Docket No. ARY-220323A-JA in the subject line of the message.

FOR FURTHER INFORMATION CONTACT: Jason Sopko, AFRL/RYO, 2241 Avionics Cir., Wright-Patterson AFB, OH 45433; Telephone: 937-713-4494; or Email: jason.sopko.2@us.af.mil.

SUPPLEMENTARY INFORMATION: The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Abstract of Patent Application(s)

There is set forth herein an integrated photonics structure having a waveguide disposed within a dielectric stack of the integrated photonics structure, wherein the integrated photonics structure further includes a field generating electrically conductive structure disposed within the dielectric stack; and a heterogeneous structure attached to the integrated photonics structure, the heterogeneous structure having field sensitive material that is sensitive to a field generated by the field generating electrically conductive structure. There is set forth herein a method including fabricating an integrated photonics structure, wherein the fabricating an integrated photonics structure includes fabricating a waveguide within a dielectric stack, wherein the fabricating an integrated photonics structure further includes fabricating a field generating electrically conductive structure within the dielectric stack; and attaching a heterogeneous structure to the integrated photonics structure, the heterogeneous structure having field sensitive material that is sensitive to a field generated by the field generating electrically conductive structure.

Intellectual Property

—COOLBAUGH et al., U.S. Patent No. 10,877,300, issued on 29 December 2020, and entitled “Heterogeneous Structure on an Integrated Photonics Platform.”

—COOLBAUGH et al., U.S. Application Publication No. 2021/0072568, published on 11 March 2011, and entitled the same.

—COOLBAUGH et al., International Application Publication WO 2019/195441, published 10 March 2019, and entitled the same; and all national and regional stage applications claiming priority thereto.

Adriane Paris,
Air Force Federal Register Liaison Officer.

[FR Doc. 2022-07319 Filed 4-6-22; 8:45 am]

BILLING CODE 5001-10-P